DEPARTMENT OF HEALTH AND HUMAN SERVICES

[Document Identifier: OS-0990-new]

Agency Information Collection Request—60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before June 8, 2021.

ADDRESSES: Submit your comments to Sherrette.Funn@hhs.gov or by calling (202) 795-7714.

FOR FURTHER INFORMATION CONTACT: When submitting comments or requesting information, please include the document identifier 0990-New-60D and project title for reference, to Sherrette A. Funn, email: Sherrette.Funn@hhs.gov, or call (202) 795-7714 the Reports Clearance Officer.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Components Study of REAL Essential Curriculum.

Type of Collection: New.

OMB No. 0990-NEW—Office of Population Affairs—OASH-OS

Abstract

The Office of Population Affairs (OPA), U.S. Department of Health and Human Services (HHS) is requesting 3 years of approval by OMB on a new collection. The Components Study of REAL Essential Curriculum will identify the components that matter the most for promoting positive health behaviors and outcomes among adolescents. The study will examine program components (for example, content and dosage), implementation components (for example, attendance and engagement), and contextual components (for example, participant characteristics) to determine which components influence participant outcomes the most. In addition, the study will measure youth engagement in programming from various perspectives and examine the role of engagement as a mediating factor to achieving youth outcomes. Sites participating in the study will use the REAL Essentials Advance (REA) relationship curriculum, a popular program among federal pregnancy prevention grantees. The study will enroll schools from spring to fall 2022 (and possibly spring 2023, if necessary). The study will collect youth outcomes surveys at baseline, at program exit and 6 months following the completion of the program. The study will also collect extensive implementation data, which includes youth engagement exit ticket surveys after REA sessions, focus groups with youth and program facilitator logs and attendance records. Study staff will also interview facilitators and site leadership.

Annualized Burden Hour Table
Forms (if necessary) | Respondents (if necessary) | Number of respondents | Number of responses per respondents | Average burden per response | Total burden hours
Youth Outcome Survey Baseline | Youth | 507 | 1 | 40/60 | 338
Youth Outcome Survey—Program Exit | Youth | 507 | 1 | 40/60 | 338
Youth Outcome Survey—Six Month Follow-up | Youth | 480 | 1 | 40/60 | 320
Youth Focus Group Topic Guide | Youth | 133 | 1 | 90/60 | 200
Youth Engagement Exit ticket | Youth | 533 | 12 | 2/60 | 213
Fidelity Log | Program Facilitators | 13 | 24 | 10/60 | 52
Facilitator Interview Topic Guide | Facilitators | 5 | 2 | 1 | 10
District/CBO Leadership Interview Topic Guide | District/School/CBO leadership | 11 | 2 | 45/60 | 17
Total |  |  | 44 |  | 1488

Sherrette A. Funn,
Paperwork Reduction Act Reports Clearance Officer, Office of the Secretary.

[FR Doc. 2021-07285 Filed 4-8-21; 8:45 am]

BILLING CODE 4150-34-P